DEPARTMENT OF THE INTERIOR

Bureau of Indian Affairs

[201A2100DD/AAKC001030/A0A501010.999900 253G; OMB Control Number 1076-0114]

Agency Information Collection Activities; Application for Admission to Haskell Indian Nations University and to Southwestern Indian Polytechnic Institute

AGENCY: Bureau of Indian Affairs, Interior.

ACTION: Notice of Information Collection; request for comment.

SUMMARY: In accordance with the Paperwork Reduction Act of 1995, we, the Bureau of Indian Education (BIE) is proposing to renew an information collection with revisions.

DATES: Interested persons are invited to submit comments on or before January 26, 2021.

ADDRESSES: Send your comments on this information collection request (ICR) by mail to Ms. Juanita Mendoza, U.S. Department of the Interior, Bureau of Indian Education, 1849 C Street NW, Washington, DC 20240; fax: (202) 208-3312; email: Juanita.Mendoza@bie.edu. Please reference OMB Control Number 1076-0114 in the subject line of your comments.

FOR FURTHER INFORMATION CONTACT: To request additional information about this ICR, contact Dr. Sherry Allison, with Southwestern Indian Polytechnic Institute, by email at Sherry.Allison@bie.edu or LouEdith Hara, with Haskell Indian Nations University, by email at lhara@haskell.edu.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BIE is requesting approval for the admission forms for Haskell Indian Nations University (Haskell) and Southwest Indian Polytechnic Institute (SIPI). These admission forms are used in determining program eligibility of American Indian and Alaska Native students for educational services. These forms are utilized pursuant to the Blood Quantum Act, Public Law 99-228; the Snyder Act, Chapter 115, Public Law 67-85; and, the Indian Appropriations of the 48th Congress, Chapter 180, page 91, For Support of Schools, July 4, 1884. Submission of these eligibility application forms is mandatory in determining a student's eligibility for educational services. The information is collected on three forms: The Application for Admission to Haskell form and the Application for Admission to SIPI form are already approved forms, and the Haskell Dual Enrollment application is a new collection instrument.

Title of Collection: Application for Admission to Haskell Indian Nations University and Southwestern Indian Polytechnic Institute.

OMB Control Number: 1076-0114.

Form Number: None.

Type of Review: Renewal of an information collection with revisions.

Respondents/Affected Public: Students.

Total Estimated Number of Annual Respondents: 4,100 per year, on average (1,000 respondents for the Application for Admission to Haskell Indian Nations University, 100 respondents for the Haskell Indian Nations University Dual Enrollment Application, and 3,000 respondents for the Southwestern Indian Polytechnic Institute application).

Total Estimated Number of Annual Responses: 4,100 per year, on average.

Estimated Completion Time per Response: 20 minutes for the Application for Admission to Haskell Indian Nations University, 20 minutes for the Haskell Indian Nations University Dual Enrollment Application, and 30 minutes for the Southwestern Indian Polytechnic Institute application.

Total Estimated Number of Annual Burden Hours: 1,867 hours.

Respondent's Obligation: Response is required to obtain a benefit.

Frequency of Collection: Each semester for the Application for Admission to Haskell Indian Nations University, each semester for the Haskell Indian Nations University Dual Enrollment Application, and each trimester for the Southwestern Indian Polytechnic Institute application.

Total Estimated Annual Nonhour Burden Cost: $10,000.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2020-26185 Filed 11-25-20; 8:45 am]

BILLING CODE 4337-15-P